DEPARTMENT OF THE INTERIOR

Bureau of Land Management

[ID-070-1020-PG]

Resource Advisory Council Meeting; Upper Snake River District

AGENCY: Bureau of Land Management, Interior.

ACTION: Upper Snake River District Resource Advisory Council Meeting: Locations and Times.

SUMMARY: In accordance with the Federal Land Policy and Management Act and the Federal Advisory Committee Act of 1972 (FACA), 5 U.S.C., the Department of the Interior, Bureau of Land Management (BLM) meeting of the Upper Snake River District Resource Advisory Council (RAC) will be held as indicated below. The agenda for this two-day meeting is as follows: A tour of the North Rim project near Twin Falls, Idaho will be held for RAC members on the first day. The second day will include discussions on the Shoshone Land Use Plan Amendment, Craters of the Moon National Monument planning, and issues surrounding the Goose Creek Allotment. Additional items that may be scheduled (depending on time) include Fire Restoration, information on the State of Idaho Federal Lands Task Force, and information on BLM Off-Highway Vehicle Planning in Idaho. The agenda may change as issues warrant between publication of this notice and the meeting.

All meetings are open to the public. The public may present written or oral comments to the council. Each formal council meeting will have a time allocated for hearing public comments. Individuals who plan to attend and need further information about the meetings, or need special assistance such as sign language interpretation or other reasonable accommodations should contact David Howell at the Upper Snake River District Office, 1405 Hollipark Dr., Idaho Falls, ID 83401, or telephone (208) 524-7559.

DATES AND TIMES: The meeting will be held May 30-31, 2001 at the Herrett Center on the College of Southern Idaho campus in Twin Falls. An executive session of the RAC will begin at 1 p.m., and the full RAC meeting will begin at 2 p.m. The meeting will conclude no later than 3 p.m. the following day. Public comments, if any, will be scheduled from 8:30 a.m. to 9 a.m. on May 31, 2001.

SUPPLEMENTARY INFORMATION: The purpose of the Resource Advisory Council is to advise the Secretary of the Interior, through the BLM, on a variety of planning and management issues associated with the management of the of the public lands.

FOR FURTHER INFORMATION CONTACT: David Howell, Upper Snake River District, 1405 Hollipark Dr., Idaho Falls, ID 83401, (208) 524-7559.

Dated: April 2, 2001.
James E. May,
District Manager.

[FR Doc. 01-10916 Filed 5-1-01; 8:45 am]

BILLING CODE 4310-GG-P